DEPARTMENT OF TRANSPORTATION

Federal Highway Administration

Environmental Impact Statement; Utah County, UT

AGENCY: Federal Highway Administration (FHWA), DOT.

ACTION: Notice of Intent.

SUMMARY: FWHA is issuing this notice to advise the public that an Environmental Impact Statement will be prepared for proposed transportation improvements on Geneva Road (SR-114) in Utah County, Utah that would begin at Center Street and U.S. Interstate 15 (I-15) in Provo and extend through the municipalities of Provo, Utah County, Vineyard, Orem, Lindon, Pleasant Grove and terminate at State Street (SR-89) in Pleasant Grove.

FOR FURTHER INFORMATION CONTACT: Anthony Sarhan, Area Engineer, Federal Highway Administration, 2520 West 4700 South, Suite 9A, Salt Lake City, Utah 84118, Telephone: (801) 963-0182; or Phil Huff, Project Manager, Utah Department of Transportation, Region Three Office, 658 North 1500 West, Orem, UT 84057, Telephone: (801) 227-8000.

SUPPLEMENTARY INFORMATION: FWHA, in cooperation with the Utah Department of Transportation (UDOT), the municipalities of Pleasant Grove, Lindon, Orem, Vineyard, Provo, and Utah County will prepare an Environmental Impact Statement (EIS) on a proposal to address current and projected traffic demand on Geneva Road. The proposed project area extends for approximately 10 miles in length along existing Geneva Road between Pleasant Grove and Provo, and is generally bordered on the west by Utah Lake and on the east by I-15. Improvements to the Geneva Road corridor are considered necessary to provide for the existing and projected traffic demand.

The FHWA will consider a reasonable range of alternatives which meet the project objectives and are based on agency and public input. These alternatives include: (1) Taking no action; (2) using alternative travel modes, (3) upgrading and adding lanes to the existing two-lane highway; and (4) constructing a highway on a new location for all or a portion of the project length.

The public, as well as Federal, State, and local agencies, will be invited to participate in project scoping to ensure that a full range of alternatives is considered and that all appropriate environmental issues and resources are evaluated. The scoping process will include opportunities to provide comments on the purpose and need for the project, potential alternatives, and social, economic, and environmental issues of concern.

Letters describing the proposed action and soliciting comments will be sent to appropriate Federal, state, and local agencies, and to private organizations and citizens who have previously expressed or who are known to have an interest in this proposal. An agency scoping meeting will be held to solicit comments on March 8, 2007, from 1 PM to 3 PM in Conference Rooms A, B, and C at the UDOT Region 3 Office (658 North 1500 West, Orem, UT).

The public will be invited to participate in scoping meetings which will be held in an open house format at locations and dates to be determined. In addition, a public hearing will be held following the release of the draft EIS. Public notice advertisements and direct mailings will notify interested parties of the time and place of the public meetings and the public hearing.

To ensure that the full range of issues related to this proposed action is addressed and all significant issues are identified, comments and suggestions are invited from all interested parties. Comments or questions concerning this proposed action and the EIS should be directed to FHWA at the address provided above.

(Catalog of Federal Domestic Assistance Program Number 20-.205, Highway Planning and Construction. The regulations implementing Executive Order 12372 regarding intergovernmental consultation on Federal programs and activities apply to this program)

Edward Woolford,
Environmental Specialist, FHWA—Division.

[FR Doc. E7-2635 Filed 2-14-07; 8:45 am]

BILLING CODE 4910-22-P